DEPARTMENT OF HEALTH AND HUMAN SERVICES

Office of the Secretary

45 CFR Parts 170 and 171

RIN 0955-AA01

21st Century Cures Act: Interoperability, Information Blocking, and the ONC Health IT Certification Program

Correction

In rule document 2020-07419, beginning on page 25642 in the issue of Friday, May 1, 2020, make the following corrections:

§ 170.315 [Corrected]

1. On page 25942, in § 170.315, in the second column, in the 27th through 28th lines, “May 2, 2022” should read “June 30, 2020”.

[FR Doc. C2-2020-07419 Filed 8-3-20; 8:45 am]

BILLING CODE 1301-00-D